DEPARTMENT OF THE TREASURY

Fiscal Service

Surety Companies Acceptable on Federal Bonds—Company Name Change; Bituminous Casualty Corporation

AGENCY: Financial Management Service, Fiscal Service, Department of the Treasury.

ACTION: Notice.

SUMMARY: This is Supplement No. 3 to the Treasury Department Circular 570, 2014 Revision, published July 1, 2014, at 79 FR 37398.

FOR FURTHER INFORMATION CONTACT: Surety Bond Branch at (202) 874-6850.

SUPPLEMENTARY INFORMATION: Notice is hereby given by the Treasury that the above-named company formally changed its name as follows:

BITCO General Insurance Corporation (NAIC #20095). Federal bond-approving officers should annotate their reference copies of the Treasury Circular 570 (“Circular”), 2014 Revision, to reflect this change.

The Circular may be viewed and downloaded through the Internet at http://www.fms.treas.gov/c570.

Questions concerning this Notice may be directed to the U.S. Department of the Treasury, Financial Management Service, Financial Accounting and Services Division, Surety Bond Branch, 3700 East-West Highway, Room D22, Hyattsville, MD 20782.

Dated: November 12, 2014.
Kevin McIntyre,
Manager, Financial Accounting and Services Branch, Bureau of the Fiscal Service.

[FR Doc. 2014-27111 Filed 11-14-14; 8:45 am]

BILLING CODE 4810-35-P